DEPARTMENT OF THE TREASURY

Office of Foreign Assets Control

Unblocking of Specially Designated Nationals and Blocked Persons Pursuant to Executive Order 12978

AGENCY: Office of Foreign Assets Control, Treasury.

ACTION: Notice.

SUMMARY: The U.S. Department of the Treasury's Office of Foreign Assets Control (“OFAC”) is publishing the names of three individuals and two entities whose property and interests in property have been unblocked pursuant to Executive Order 12978 of October 21, 1995, “Blocking Assets and Prohibiting Transactions With Significant Narcotics Traffickers”.

DATES: The unblocking and removal from the list of Specially Designated Nationals and Blocked Persons (“SDN List”) of the three individuals and two entities identified in this notice whose property and interests in property were blocked pursuant to Executive Order 12978 of October 21, 1995, is effective on October 19, 2011.

FOR FURTHER INFORMATION CONTACT: Assistant Director, Sanctions Compliance & Evaluation, Office of Foreign Assets Control, Department of the Treasury, Washington, DC 20220, tel.: (202)622-2490.

SUPPLEMENTARY INFORMATION:

Electronic and Facsimile Availability

This document and additional information concerning OFAC are available from OFAC's Web site (http://www.treasury.gov/ofac) or via facsimile through a 24-hour fax-on demand service at (202) 622-0077.

Background

On October 21, 1995, the President, invoking the authority, inter alia, of the International Emergency Economic Powers Act (50 U.S.C. 1701-1706) (“IEEPA”), issued Executive Order 12978 (60 FR 54579, October 24, 1995) (the “Order”). In the Order, the President declared a national emergency to deal with the threat posed by significant foreign narcotics traffickers centered in Colombia and the harm that they cause in the United States and abroad.

Section 1 of the Order blocks, with certain exceptions, all property and interests in property that are in the United States, or that hereafter come within the United States or that are or hereafter come within the possession or control of United States persons, of: (1) The foreign persons listed in an Annex to the Order; (2) any foreign person determined by the Secretary of Treasury, in consultation with the Attorney General and the Secretary of State: (a) To play a significant role in international narcotics trafficking centered in Colombia; or (b) to materially assist in, or provide financial or technological support for or goods or services in support of, the narcotics trafficking activities of persons designated in or pursuant to the Order; and (3) persons determined by the Secretary of the Treasury, in consultation with the Attorney General and the Secretary of State, to be owned or controlled by, or to act for or on behalf of, persons designated pursuant to the Order.

On October 19, 2011, the Director of OFAC removed from the SDN List the three individuals and two entities listed below, whose property and interests in property were blocked pursuant to the Order:

Individuals:

GAMBOA MORALES, Luis Carlos, c/o GAMBOA Y GAMBOA LTDA., Bogota, Colombia; Carrera 9 No. 70A—35 Piso 7, Bogota, Colombia; DOB 20 Dec 1957; Cedula No. 3228859 (Colombia) (individual) [SDNT]

OSORIO CADAVID, Maria Victoria, c/o COLOR 89.5 FM STEREO, Cali, Colombia; c/o DERECHO INTEGRAL Y CIA. LTDA., Cali, Colombia; Cedula No. 31932294 (Colombia) (individual) [SDNT]

SAIEH JASSIR, Abdala, 780 NW 42nd Avenue, Suite 516, Miami, FL 33126; 780 NW Le Jeune Road, Suite 516, Miami, FL 33126; 19667 Turnberry Way A-G, North Miami Beach, FL; Carrera 56 No. 19-40 Apt. 11, Barranquilla, Colombia; c/o VILLAROSA INVESTMENTS CORPORATION, Panama City, Panama; c/o VILLAROSA INVESTMENTS FLORIDA, INC., Miami, FL; c/o URBANIZADORA ALTAVISTA INTERNACIONAL S.A., Barranquilla, Colombia; c/o MLA INVESTMENTS INC., Virgin Islands, British; c/o KATTUS CORPORATION, Barbados; c/o KAREN OVERSEAS, INC., Panama City, Panama; c/o KAREN OVERSEAS FLORIDA, INC., Miami, FL; c/o JAMCE INVESTMENTS LTD, Grand Cayman, Cayman Islands; c/o GRANADA ASSOCIATES, INC., Miami, FL; c/o ELIZABETH OVERSEAS INC., Panama City, Panama; c/o CONSTRUCTORA ALTAVISTA INTERNACIONAL S.A., Barranquilla, Colombia; c/o CONFECCIONES LORD S.A., Barranquilla, Atlantico, Colombia; c/o ALM INVESTMENT FLORIDA, INC., Miami, FL; c/o SALMAN CORAL WAY PARTNERS, Miami, FL; c/o C.W. SALMAN PARTNERS, Miami, FL; DOB 19 Dec 1919; citizen Colombia; Cedula No. 812202 (Colombia); Passport AF547128 (Colombia) (individual) [SDNT]

Entities:

BANCA DE INVERSION Y MERCADO DE CAPITALES S.A. (a.k.a. BIMERC S.A.), Avenida 6N No. 17-92 Oficina 802, Cali, Colombia; NIT # 800238316-7 (Colombia) [SDNT]

GAMBOA Y GAMBOA LTDA., Carrera 9 No. 70A-35 P. 7, Bogota, Colombia; NIT # 800013236-1 (Colombia) [SDNT]

Dated: October 19, 2011.
Adam J. Szubin,
Director, Office of Foreign Assets Control.

[FR Doc. 2011-27553 Filed 10-24-11; 8:45 am]

BILLING CODE 4810-AL-P